DEPARTMENT OF STATE

[Public Notice 5733]

Advisory Committee on Democracy Promotion (ACDP) Meeting Notice

Notice of Public Meeting

A meeting of the Advisory Committee on Democracy Promotion will be held on Monday, April 16, 2007, in Room 1107, U.S. Department of State, 2201 C Street, NW., Washington, DC. The meeting will begin at 9:30 a.m. and is expected to conclude at 1 p.m., and will be open to the public, up to the capacity of the meeting room. The Committee members will discuss various issues relating to strategies to promote democratic governance, with Secretary Rice participating from 10-10:45.

Entry to the main State Department building is controlled and will require advance arrangements. Members of the public wishing to attend this meeting should, by Thursday, April 12, 2007, notify Karen Chen in the Bureau of Democracy, Human Rights, and Labor, telephone: 202-647-4648, of their name; date of birth; valid government-issued ID number (see below); citizenship; and professional affiliation, including address and telephone number in order to arrange admittance. This includes admittance for government employees as well as others.

All attendees must use the “C” Street entrance of the Department, after being screened through the exterior screening facilities, and arrive at 9:30 a.m. to attend the Secretary's session. There will be no admittance after 9:50 a.m. until the completion of the Secretary's session. One of the following valid IDs will be required for admittance: any U.S. driver's license with photo, a passport, or a U.S. Government agency ID. Because an escort is required at all times, attendees should expect to remain in the meeting for the entire session.

For more information, contact Paul Lettow, Senior Advisor to the Under Secretary for Democracy and Global Affairs, Department of State, Washington, DC 20520, telephone: (202) 647-1189.

Dated: March 23, 2007.
Barry F. Lowenkron,
Assistant Secretary of the Bureau of Democracy, Human Rights, and Labor Department of State.

[FR Doc. E7-5807 Filed 3-28-07; 8:45 am]

BILLING CODE 4710-18-P